FEDERAL COMMUNICATIONS COMMISSION

Sunshine Act Meeting; Open Commission Meeting; Thursday, September 22, 2011

September 15, 2011.

The Federal Communications Commission will hold an Open Meeting on the subjects listed below on Thursday, September 22, 2011, which is scheduled to commence at 10:45 a.m. in Room TW-C305, at 445 12th Street, SW., Washington, DC.

Item Nos. | Bureau | Subject
1 | Public Safety and Homeland Security | Title: Framework for Next Generation 911 Deployment (PS Docket No. 10-255)
|  | Summary: The Commission will consider a Notice of Proposed Rulemaking to accelerate the development and deployment of Next Generation 911 (NG911) technology to improve public safety by enabling the public to send text, photos, videos, and data communications to 911 Public Safety Answering Points (PSAPs) and enhancing the information available to PSAPs and first responders for assessing and responding to emergencies.
2 | Public Safety and Homeland Security | The Public Safety and Homeland Security Bureau will present a white paper on the use of deployable aerial communications architecture to facilitate the ability of first responders to communicate with each other and consumers to reach first responders in the wake of natural and manmade disasters, even in situations where there is severe damage to terrestrial communications infrastructure. The report will make recommendations regarding next steps the FCC should consider to promote the development and use of deployable aerial communications architecture.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary, Office of the Secretary, Office of Managing Director.

[FR Doc. 2011-24255 Filed 9-16-11; 4:15 pm]

BILLING CODE 6712-01-P